DEPARTMENT OF THE INTERIOR

Fish and Wildlife Service

50 CFR Part 17

RIN 1018-AG75

Endangered and Threatened Wildlife and Plants; Designation of Critical Habitat for Chlorogalum purpureum, a Plant From the South Coast Ranges of California

AGENCY: Fish and Wildlife Service, Interior.

ACTION: Proposed rule; reopening of comment period and notice of availability of draft economic analysis.

SUMMARY: We, the U.S. Fish and Wildlife Service, announce the reopening of the comment period for the proposed designation of critical habitat for two varieties of purple amole: Chlorogalum purpureum var. purpureum (purple amole) and Chlorogalum purpureum var. reductum (Camatta Canyon amole), and the availability of the draft economic analysis for the proposed designation of critical habitat. We are reopening the comment period for these species to allow all interested parties to comment simultaneously on the proposed rule and the associated draft economic analysis. Comments previously submitted need not be resubmitted as they will be incorporated into the public record as part of this extended comment period and will be fully considered in the final rule.

DATES: We will accept public comments until June 6, 2002.

ADDRESSES: Written comments and information should be submitted to Field Supervisor, Ventura Fish and Wildlife Office, U.S. Fish and Wildlife Service, 2493 Portola Road, Suite B, Ventura, CA 93003. For the electronic mail address, and further instructions on commenting, refer to Public Comments Solicited section of this notice.

FOR FURTHER INFORMATION CONTACT: Heidi E. D. Crowell, Ventura Fish and Wildlife Office, U.S. Fish and Wildlife Service, telephone 805/644-1766; facsimile 805/644-3958.

SUPPLEMENTARY INFORMATION:

Background

Chlorogalum purpureum is a low-growing lily that forms a rosette composed of linear and flat, bright green leaves at the base of the plant (basal rosette). It is the only member of the genus Chlorogalum with bluish-purple flowers that open during daytime hours. Chlorogalum purpureum var. purpureum has an inflorescence (flowering structure) that is 25 to 40 cm (10 to 16 in) high, in contrast to C. p. var. reductum which has a shorter inflorescence that is 10 to 20 cm (4 to 8 in) high (Wilken 2000, Hoover 1964, Jernstedt 1993).

Chlorogalum purpureum is endemic to the south coast ranges of Monterey and San Luis Obispo counties. Chlorogalum purpureum var. purpureum (purple amole) occurs in the Santa Lucia Range of southern Monterey County and in northern San Luis Obispo County. Chlorogalum purpureum var. reductum (Camatta Canyon amole) occurs in one region of the La Panza Range of San Luis Obispo County. Threats include habitat fragmentation, habitat conversion, establishment of invasive plant species and nonnative grasses, establishment of military training facilities at Fort Hunter Liggett and Camp Roberts, and possibly the establishment of the San Antonio Reservoir in southern Monterey County.

Pursuant to the Endangered Species Act of 1973, as amended (Act) (16 U.S.C. 1531 et seq.), both varieties of Chlorogalum purpureum were proposed for listing as threatened species on March 30, 1998 (63 FR 15158). On June 17, 1999, our failure to issue a final rule and to make a critical habitat determination was challenged in Southwest Center for Biological Diversity and California Native Plant Society v. Babbitt (Case No. C99-2992 (N.D.Cal.)). The final rule listing the species Chlorogalum purpureum, which comprises two varieties, Chlorogalum purpureum var. reductum (Camatta Canyon amole) and Chlorogalum purpureum var. purpureum (purple amole), as threatened was published on March 20, 2000. On November 8, 2001, the proposed rule to designate critical habitat for Chlorogalum purpureum var. purpureum and C. p. var. reductum was published in the Federal Register (66 FR 56508). The original comment period closed on January 7, 2002. We are reopening the comment period for an additional 30 days to allow all interested parties to comment simultaneously on the proposed rule and the associated draft economic analysis.

We have proposed to designate approximately 8,898 hectares (21,980 acres) as critical habitat for Chlorogalum purpureum var. purpureum and C. p. var. reductum in Monterey and San Luis Obispo counties, California. Critical habitat receives protection from destruction or adverse modification through required consultation under section 7 of the Act with regard to actions carried out, funded, or authorized by a Federal agency that may affect the critical habitat. Section 4(b)(2) of the Act requires that we designate or revise critical habitat based upon the best scientific and commercial data available, after taking into consideration the economic, or any other relevant impact of specifying any particular area as critical habitat. Based upon the previously published proposal to designate critical habitat for Chlorogalum purpureum var. purpureum and C. p. var. reductum, we have prepared a draft economic analysis of the proposed critical habitat designation. The draft economic analysis is available on the Internet and from the mailing addresses in the Public Comments Solicited section below.

Public Comments Solicited

We will accept written comments and information during this reopened comment period. If you wish to comment, you may submit your comments and materials concerning this proposal by any of several methods:

(1) You may submit written comments and information to the Field Supervisor, Ventura Fish and Wildlife Office, U.S. Fish and Wildlife Service, 2493 Portola Road, Suite B, Ventura, CA 93003.

(2) You may send comments by electronic mail (e-mail) to: fw1chlorogalum@r1.fws.gov. If you submit comments by e-mail, please submit them as an ASCII file and avoid the use of special characters and any form of encryption. Please also include “Attn: RIN 1018-AG75” and your name and return address in your e-mail message. If you do not receive a confirmation from the system that we have received your e-mail message, contact us directly by calling our Ventura Fish and Wildlife Office at telephone number 805/644-1766.

(3) You may hand-deliver comments to our Ventura Fish and Wildlife Office at the address given above.

Comments and materials received, as well as supporting documentation used in preparation of the proposal to designate critical habitat, will be available for inspection, by appointment, during normal business hours at the address under (1) above. Copies of the draft economic analysis are available on the Internet at “www.r1.fws.gov/news” or by writing to the Field Supervisor at the address under (1) above.

References Cited

A complete list of all references cited herein, as well as others, is available upon request from the Ventura Fish and Wildlife Office (see ADDRESSES section).

Author

The primary author of this notice is Catrina Martin (see ADDRESSES section).

Authority: The authority for this action is the Endangered Species Act of 1973 (16 U.S.C. 1531 et seq.).

Dated: April 24, 2002.
Craig Manson,
Assistant Secretary for Fish and Wildlife and Parks.

[FR Doc. 02-11003 Filed 5-6-02; 8:45 am]

BILLING CODE 4310-55-P